DEPARTMENT OF VETERANS AFFAIRS

Advisory Committee on Minority Veterans, Notice of Meeting

The Department of Veterans Affairs (VA) gives notice under Public Law 92-463 (Federal Advisory Committee Act) that a meeting of the Advisory Committee on Minority Veterans will be held from Wednesday, November 20, 2002, through Friday, November 22, 2002, from 8:30 a.m. until 5 p.m. each day, at the Department of Veterans Affairs, 810 Vermont Avenue, NW., Room 230, Washington, DC. The meeting is open to the public.

The purpose of the Committee is to advise the Secretary on the administration of VA benefits and services to minority veterans, to assess the needs of minority veterans, and to evaluate whether VA compensation, medical and rehabilitation services, outreach, and other programs are meeting those needs. The Committee will make recommendations to the Secretary regarding such activities.

On November 20, the Committee will review its prior years' annual report recommendations and discuss methods to effectively measure results and streamline its reporting process. During the afternoon session, the Committee will receive briefings from key VA staff members concerning the recommendations submitted to the Secretary in its 8th Annual Report (2002). Briefings will be conducted by Veterans Health Administration, Veteran Benefits Administration, Acquisition Policy, Office of Small and Disadvantaged Business, National Cemetery and Memorial Affairs, Office of Human Resources and Native American Home Loan Program.

On November 21, the Committee will focus on its strategic plan for 2003, determine achievable strategic goals and develop an executable plan of action. On November 22, the Committee will meet with the VA Deputy Secretary in the morning. The Center for Minority Veterans will brief the Committee on recent site visits and findings related to minority veterans and the latest initiatives undertaken by the Center.

No time will be allocated for oral presentations from the public. However, the Committee will accept written comments from interested parties on issues outlined in the meeting agenda, as well as other issues affecting minority veterans. Such comments should be referred to the Committee at Advisory Committee on Minority Veterans, Center for Minority Veterans (00M), Department of Veterans Affairs, 810 Vermont Avenue, NW., Washington, DC 20420. Any member of the public wishing to attend the meeting or further information should contact Ms. Ruby Miller at (202) 273-6708.

Dated: October 31, 2002.
By Direction of the Secretary.
Nora E. Egan,
Committee Management Officer.

[FR Doc. 02-28548 Filed 11-7-02; 8:45 am]

BILLING CODE 8320-01-M